Title 3—

The President

Proclamation 8922 of December 31, 2012

National Mentoring Month, 2013

By the President of the United States of America

A Proclamation

Our American family is bound together by caring individuals who make it their mission to serve others. During National Mentoring Month, we pay special tribute to the men and women who enrich the lives of our young people and fortify the unbreakable bonds between one generation and the next.

Mentors know that helping a child unlock their full potential begins with care, guidance, and support—which is why my Administration is proud to celebrate mentorship nationwide through programs that help young people see the strength within themselves. We created the Corporate Mentoring Challenge, which encourages businesses across our country to open or expand mentoring programs that equip our youth with the tools to achieve. We have connected young men and women in the Washington, DC, area with mentors at the White House, and we have partnered with groups across the public, private, and nonprofit sectors to build pathways to summer job opportunities for low-income and disconnected youth. And since 2010, we have worked to build strong connections between children and responsible adults through our Fatherhood and Mentoring Initiative.

A supportive mentor can mean the difference between struggle and success. As we mark this important occasion, I encourage all Americans to spend time as a mentor and help lift our next generation toward their hopes and dreams. To learn more about how to get involved, visit www.Serve.gov/Mentor.

NOW, THEREFORE, I, BARACK OBAMA, President of the United States of America, by virtue of the authority vested in me by the Constitution and the laws of the United States, do hereby proclaim January 2013 as National Mentoring Month. I call upon public officials, business and community leaders, educators, and Americans across the country to observe this month with appropriate ceremonies, activities, and programs.

IN WITNESS WHEREOF, I have hereunto set my hand this thirty-first day of December, in the year of our Lord two thousand twelve, and of the Independence of the United States of America the two hundred and thirty-seventh.

[FR Doc. 2013-00105

Filed 1-4-13; 8:45 am]

Billing code 3295-F3